Title 3—

The President

Proclamation 7460 of September 8, 2001

National Birmingham Pledge Week, 2001

By the President of the United States of America

A Proclamation

The United States has grown strong and vibrant because of its diversity and common values. Representing different religions, cultures, ethnic groups, and backgrounds, our citizens have laid the foundation for our country's remarkable achievements.

As a Nation, we celebrate those achievements and look forward to new challenges. At the same time, we also recognize that racism still exists in America.

One of the darkest days for the cause of civil rights was September 15, 1963, when a bomb exploded in the basement of the Sixteenth Street Baptist Church in Birmingham, Alabama. The blast ended the lives of four young African-American girls, and ultimately demonstrated the tragic human costs of bigotry and intolerance.

Through the efforts of heroes like Martin Luther King, Jr., and other brave men and women of the civil rights movement, our Nation has made progress in battling racism and building a society that more fully lives up to its democratic ideals. However, regardless of the decades that have passed, despicable acts such as the Birmingham bombing remain an unforgettable reminder of the need for continued vigilance against those who would infest our society with hate.

The Birmingham Pledge, started in 1998, forges a positive legacy from the lessons of the Birmingham tragedy. The Pledge encourages people to take personal responsibility for conducting themselves in ways that will achieve greater racial harmony in our communities. It calls for a commitment to “treat all people with dignity and respect.” This is our solemn duty as citizens.

As part of National Birmingham Pledge Week, I encourage all Americans to join me in renewing our commitment to fight racism and uphold equal justice and opportunity. We also must strive to treat each other with civility, to love our neighbors, and to extend the American dream to every willing heart. By doing so, we can fulfill our Nation's promise and build brighter futures for all our citizens as we look forward to the challenges of tomorrow.

NOW, THEREFORE, I, GEORGE W. BUSH, President of the United States of America, by virtue of the authority vested in me by the Constitution and laws of the United States, do hereby proclaim September 9-15, 2001, as National Birmingham Pledge Week. I call upon the people of the United States to mark this observance with appropriate programs and ceremonies.

IN WITNESS WHEREOF, I have hereunto set my hand this eighth day of September, in the year of our Lord two thousand one, and of the Independence of the United States of America the two hundred and twenty-sixth.

B

[FR Doc. 01-23078

Filed 9-11-01; 9:02 am]

Billing code 3195-01-P